DEPARTMENT OF DEFENSE

Office of the Secretary

[Transmittal No. 18-21]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 18-21 with attached Policy Justification, and State Department Emergency Determination and Justification.

Dated: July 19, 2019.
Aaron T. Siegel,
Alternate OSD Federal Register Liaison Officer, Department of Defense.

BILLING CODE 5001-06-P

BILLING CODE 5001-06-C

Transmittal No. 18-21

Notice of Proposed Issuance of Letter of Offer Pursuant to Section 36(b)(1) of the Arms Export Control Act, as amended

(i) Prospective Purchaser: Saudi Arabia

(ii) Total Estimated Value:

Major Defense Equipment * | $ 0 million
Other | $800 million
TOTAL | $800 million

(iii) Description and Quantity or Quantities of Articles or Services under Consideration for

Purchase:

Major Defense Equipment (MDE): None

Non-MDE:

Follow-on support and services for Royal Saudi Air Force aircraft, engines, and weapons; publications and technical documentation; support equipment; spare and repair parts; repair and return; calibration support and test equipment; personnel equipment; U.S. Government and contractor technical and logistics support, and other related elements of program support. Equipment and spares will be procured for support of, but not limited to, F-5, RG-5, F-15, C-130, KC-130, E-3, RE-3, and KE-3 aircraft.

(iv) Military Department: Air Force (QAH)

(v) Prior Related Cases, if any: FMS Case QAY—$100,000,000—05 June 2010 and QAY

Amendment 7—$739,508,525—30 October 2016.

(vi) Sales Commission, Fee, etc., Paid, Offered, or Agreed to be Paid: None

(vii) Sensitivity of Technology Contained in the Defense Article or Defense Services

Proposed to be Sold: None

(viii) Date Report Delivered to Congress: May 24, 2019

* As defined in Section 47(6) of the Arms Export Control Act.

POLICY JUSTIFICATION

Saudi Arabia—Follow-on Support and Services for the Royal Saudi Air Force Aircraft

Saudi Arabia has requested to purchase follow-on support and services for Royal Saudi Air Force aircraft, engines, and weapons; publications and technical documentation; support equipment; spare and repair parts; repair and return; calibration support and test equipment; personnel equipment; U.S. Government and contractor technical and logistics support, and other related elements of program support. Equipment and spares will be procured for support of, but not limited to, F-5, RG-5, F-15, C-130, KC-130, E-3, RE-3, and KE- 3 aircraft. The total estimated program cost will be $800 million.

The Secretary of State has determined and provided detailed justification that an emergency exists that requires the immediate sale to the Kingdom of Saudi Arabia of the above defense articles (and defense services) in the national security interests of the United States, thereby waiving the Congressional review requirements under Section 36(b) of the Arms Export Control Act, as amended.

This proposed sale will support U.S. foreign policy and national security objectives by helping to improve the security of a friendly country, which has been, and continues to be, an important force for political stability and economic growth in the Middle East. This potential sale is a continuation of current support. Saudi Arabia will have no difficulty absorbing this support and services into its armed forces.

Implementation of this sale will sustain Saudi Arabia's flight and maintenance activity. It will improve sustainability and continue support for the fleet.

The proposed sale of this equipment and support will not alter the basic military balance in the region.

There will be various contractors associated with the equipment involved with this case, and there is no prime contractor. There are no known offset agreements proposed in connection with this potential sale.

Implementation of this proposed sale will require the assignment of a small number of additional U.S. Government or contractor representatives to Saudi Arabia for maintenance, training, and sustainment.

There will be no adverse impact on U.S. defense readiness as a result of this proposed sale.

BILLING CODE 5001-06-P

[FR Doc. 2019-15755 Filed 7-23-19; 8:45 am]

BILLING CODE 5001-06-C